DEPARTMENT OF LABOR

Employment and Training Administration

Investigations Regarding Eligibility To Apply for Worker Adjustment Assistance

Petitions have been filed with the Secretary of Labor under Section 221 (a) of the Trade Act of 1974 (“the Act”) and are identified in the Appendix to this notice. Upon receipt of these petitions, the Director of the Office of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Director, Office of Trade Adjustment Assistance, at the address shown below, no later than November 1, 2018.

Interested persons are invited to submit written comments regarding the subject matter of the investigations to the Director, Office of Trade Adjustment Assistance, at the address shown below, not later than November 1, 2018.

The petitions filed in this case are available for inspection at the Office of the Director, Office of Trade Adjustment Assistance, Employment and Training Administration, U.S. Department of Labor, Room N-5428, 200 Constitution Avenue NW, Washington, DC 20210.

Signed at Washington, DC this 17th day of August 2018.
Hope D. Kinglock,
Certifying Officer, Office of Trade Adjustment Assistance.

Appendix
[84 TAA Petitions Instituted Between 7/14/18 and 8/17/18]
TA-W No. | Subject firm (petitioners) | Location | Date of institution | Date of petition
93984 | Hewlett Packard Enterprise (Workers) | Andover, MA | 07/16/18 | 07/13/18
93985 | Regal Beloit Corporation (Company) | Springfield, MO | 07/16/18 | 07/13/18
93986 | Electrolux Major Appliances—Freezer Division (State/One-Stop) | Saint Cloud, MN | 07/17/18 | 07/16/18
93987 | Essity Operations Wausau LLC (Union) | Middletown, OH | 07/18/18 | 07/17/18
93988 | Kraco Enterprises (State/One-Stop) | Compton, CA | 07/18/18 | 07/17/18
93989 | Silcotech Carolina Inc. (State/One-Stop) | York, SC | 07/18/18 | 07/17/18
93990 | AVM Industries (State/One-Stop) | Marion, SC | 07/19/18 | 07/18/18
93991 | Bank of America, National Association (State/One-Stop) | Westlake, CA | 07/19/18 | 07/18/18
93992 | Imax Corp at Eastman Business Park (State/One-Stop) | Rochester, NY | 07/19/18 | 07/18/18
93993 | Mellanox Technologies (State/One-Stop) | Monterey Park, CA | 07/19/18 | 07/18/18
93994 | Fargo Assembly Company (State/One-Stop) | Edgeley, ND | 07/20/18 | 07/19/18
93994B | Fargo Assembly Company (State/One-Stop) | Lehr, ND | 07/20/18 | 07/19/18
93994A | Fargo Assembly Company (State/One-Stop) | Ellendale, ND | 07/20/18 | 07/19/18
93995 | MedPlast/Viant (State/One-Stop) | West Berlin, NJ | 07/20/18 | 07/19/18
93996 | Mid-West Mfg. LLC (State/One-Stop) | Chicago Heights, IL | 07/20/18 | 07/19/18
93997 | PTC Tubular Products LLC (State/One-Stop) | Fairbury, IL | 07/20/18 | 07/19/18
93998 | Toys R Us Corporate Office & Headquarters (State/One-Stop) | Wayne, NJ | 07/20/18 | 07/19/18
93999 | Ministry Health Care Inc. (Workers) | Merrill, WI | 07/23/18 | 07/20/18
94000 | Pranda North America, Inc. (State/One-Stop) | Cranston, RI | 07/23/18 | 07/20/18
94001 | Tempur Sealy International Inc. (State/One-Stop) | St Paul, MN | 07/23/18 | 07/20/18
94002 | Auburn Leather Company (Workers) | Auburn, KY | 07/24/18 | 06/12/18
94002A | Auburn Leather Company DBA Old Kentucky Leather (Workers) | Franklin, KY | 07/24/18 | 06/12/18
94003 | Coty (Workers) | Blue Ash, OH | 07/24/18 | 07/23/18
94004 | Ericsson (State/One-Stop) | Overland Park, KS | 07/24/18 | 07/23/18
94005 | Ernst & Young (State/One-Stop) | Overland Park, KS | 07/24/18 | 07/23/18
94006 | Nuance Transcription Services, Inc. (Workers) | Atlanta, GA | 07/24/18 | 07/23/18
94007 | Centralia Knitting Mills, Inc. (State/One-Stop) | Centralia, WA | 07/25/18 | 07/23/18
94008 | Advanced Motors and Drives—A Nidec Kinetek Company (State/One-Stop) | East Syracuse, NY | 07/26/18 | 07/25/18
94009 | DST Pharmacy Solutions (State/One-Stop) | Kansas City, MO | 07/26/18 | 07/25/18
94010 | GCL Solar Materials, US I, LLC (State/One-Stop) | St. Charles, MO | 07/26/18 | 07/25/18
94011 | Rivulis Irrigation (Workers) | Valdosta, GA | 07/26/18 | 07/25/18
94012 | Aspen Insurance U.S. Services Inc. (Company) | Miami, FL | 07/27/18 | 07/13/18
94013 | Guynes Packaging and Printing dba Boutwell, Owens & Co. Inc. (State/One-Stop) | El Paso, TX | 07/27/18 | 07/26/18
94014 | Hewlett Packard Enterprise (State/One-Stop) | Fort Collins, CO | 07/27/18 | 07/26/18
94015 | IAC Strasburg (State/One-Stop) | Strasburg, VA | 07/27/18 | 05/26/18
94016 | Kelly Foundry and Machine Company (Union) | Elkins, WV | 07/27/18 | 07/25/18
94017 | Aspen Insurance U.S. Services, Inc. (State/One-Stop) | New York, NY | 07/30/18 | 07/27/18
94018 | AT&T Mobility Services LLC (Union) | Harrisburg, PA | 07/30/18 | 07/27/18
94019 | Chain IQ US Inc. (State/One-Stop) | Jersey City, NJ | 07/30/18 | 07/30/18
94020 | Columbia Forest Products (State/One-Stop) | Boardman, OR | 07/30/18 | 07/27/18
94021 | Columbia Forest Products (State/One-Stop) | Klamath Falls, OR | 07/30/18 | 07/27/18
94022 | CURT Manufacturing, LLC (Company) | Eau Claire, WI | 07/30/18 | 07/27/18
94023 | Murphy Plywood (State/One-Stop) | Eugene, OR | 07/30/18 | 07/27/18
94024 | States Industries (State/One-Stop) | Eugene, OR | 07/30/18 | 07/27/18
94025 | Timber Products (State/One-Stop) | Grants Pass, OR | 07/30/18 | 07/27/18
94026 | Timber Products (State/One-Stop) | Medford, OR | 07/30/18 | 07/27/18
94027 | Timber Products (State/One-Stop) | White City, OR | 07/30/18 | 07/27/18
94028 | Biosense Webster (State/One-Stop) | Baldwin Park, CA | 07/31/18 | 07/30/18
94029 | Citigroup Inc. (State/One-Stop) | Urbandale, IA | 07/31/18 | 07/30/18
94030 | The Hartz Mountain Corporation (Workers) | Logansport, IN | 07/31/18 | 07/27/18
94031 | iQor Holdings US LLC (State/One-Stop) | Simi Valley, CA | 07/31/18 | 07/30/18
94032 | Nu-World Foods, Inc. (State/One-Stop) | Dyersville, IA | 07/31/18 | 07/30/18
94033 | AF Gloenco (Company) | Newport, NH | 08/01/18 | 07/23/18
94034 | Boeing (State/One-Stop) | El Segundo, CA | 08/01/18 | 07/31/18
94035 | NECCO (State/One-Stop) | Revere, MA | 08/01/18 | 08/01/18
94036 | Vitro/PGW, LLC (Workers) | Pittsburgh, PA | 08/01/18 | 07/26/18
94037 | Bristol Compressors International, LLC (State/One-Stop) | Bristol, VA | 08/02/18 | 08/01/18
94038 | CDK Global (State/One-Stop) | Portland, OR | 08/02/18 | 08/01/18
94039 | Roseburg Forest Products (State/One-Stop) | Dillard, OR | 08/02/18 | 08/01/18
94040 | DWK (Workers) | Millville, NJ | 08/03/18 | 07/25/18
94041 | Integra Connect (formerly Centrex Revenue Solutions) (State/One-Stop) | Akron, OH | 08/03/18 | 08/02/18
94042 | Honeywell Safety Products (Workers) | Smithfield, RI | 08/06/18 | 08/03/18
94043 | Afni, Inc. (Workers) | Bloomington, IL | 08/07/18 | 08/06/18
94044 | Amphenol Corporation (State/One-Stop) | Hamden, CT | 08/07/18 | 08/06/18
94045 | Roaring Spring Paper Products (Union) | Roaring Spring, PA | 08/07/18 | 08/06/18
94046 | Teter's Floral Products, Inc. (State/One-Stop) | Bolivar, MO | 08/07/18 | 08/06/18
94047 | Massachusetts Mutual Life Insurance Co. (State/One-Stop) | Enfield, CT | 08/08/18 | 08/07/18
94048 | PAREXEL International (State/One-Stop) | Billerica, MA | 08/08/18 | 08/03/18
94049 | C & D Zodiac Aerospace (State/One-Stop) | Santa Maria, CA | 08/09/18 | 08/08/18
94050 | Conmed Corporation (State/One-Stop) | Milford, CT | 08/09/18 | 08/08/18
94051 | Enrichment Technology US, Inc. (Company) | Eunice, NM | 08/09/18 | 08/08/18
94052 | General Electric (State/One-Stop) | Schenectady, NY | 08/09/18 | 08/08/18
94053 | Masterbrand Cabinets (Workers) | Auburn, AL | 08/09/18 | 08/08/18
94054 | UTAS (United Technologies Aerospace Systems) formerly Hamilton Sundstrand (Union) | Windsor Locks, CT | 08/09/18 | 08/08/18
94055 | Ginsu Brands (Workers) | Walnut Ridge, AR | 08/10/18 | 08/09/18
94056 | IBM (State/One-Stop) | San Jose, CA | 08/10/18 | 08/09/18
94057 | Great Lakes Polymer Technologies (State/One-Stop) | Albert Lea, MN | 08/13/18 | 08/10/18
94058 | Pacific Stainless Products Inc. (State/One-Stop) | Saint Helens, OR | 08/13/18 | 08/10/18
94059 | West Virginia University Research Corporation (Workers) | Morgantown, WV | 08/13/18 | 08/10/18
94060 | AES Ohio Generation (State/One-Stop) | Aberdeen, OH | 08/14/18 | 08/13/18
94061 | US Foods, Inc. (State/One-Stop) | Sioux City, IA | 08/14/18 | 08/13/18
94062 | Xerox Corp (State/One-Stop) | Webster, NY | 08/14/18 | 08/13/18
94063 | Triumph Aerostructures, Vought Aircraft (State/One-Stop) | Grand Prairie, TX | 08/16/18 | 08/15/18
94064 | Triumph Aerostructures, Vought Aircraft Division (State/One-Stop) | Red Oak, TX | 08/16/18 | 08/15/18

[FR Doc. 2018-22918 Filed 10-19-18; 8:45 am]

BILLING CODE 4510-FN-P